DEPARTMENT OF TRANSPORTATION

Federal Transit Administration

[Docket No: FTA-2007-29075]

National Transit Database: Rural Reporting Manual

AGENCY: Federal Transit Administration (FTA), DOT.

ACTION: Final National Transit Database Rural Reporting Manual.

SUMMARY: This notice announces the availability of the Federal Transit Administration's (FTA) National Transit Database (NTD) Rural Reporting Manual (Rural Manual). Pursuant to 49 U.S.C. 5335, FTA requires recipients of grants under 49 U.S.C. 5311 (Other Than Urbanized Area Formula Grants) to provide an annual report to the Secretary of Transportation via the NTD reporting system and according to a uniform system of accounts (USOA). 49 U.S.C. 5311(4) provides additional specifications for annual reporting from recipients of Section 5311 grants. The Rural Manual provides complete details as to FTA's implementation of these annual requirements through reporting to the Rural NTD Module. On September 5, 2007, FTA published a notice in the Federal Register (72 FR 17564) inviting comments on the proposed Rural Manual. This notice provides responses to those comments and announces the availability of the final 2007 Rural Manual.

DATES: Effective Date: December 6, 2007.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry, and was established by Congress to “help meet the needs of * * * the public for information on which to base public transportation service planning * * *” (49 U.S.C 5335). Recipients of grants under 49 U.S.C. 5307 (Urbanized Area Formula Grants) or under 49 U.S.C. 5311 (Other Than Urbanized Area Formula Grants) are required by statute to submit data to the NTD. The statute further specifies that recipients of Section 5311 Grants are required to submit an annual report “containing information on capital investment, operations, and service provided with funds received * * * including,

(A) Total annual revenue;

(B) Sources of revenue;

(C) Total annual operating costs;

(D) Total annual capital costs;

(E) Fleet size and type, and related facilities;

(F) Revenue vehicle miles; and

(G) Ridership.” (49 U.S.C. 5311)

The National Transit Database Rural Reporting Manual (Rural Manual) provides complete details as to FTA's implementation of these annual requirements for recipients of grants under 49 U.S.C. 5311 through reporting to the Rural NTD Module.

Pursuant to 49 U.S.C. 5334, FTA published a Federal Register Notice (72 FR 17549) inviting the public to comment on the binding obligations contained in the Rural Manual. As provided for in 49 U.S.C. 5335, the Rural Manual expands NTD reporting to include recipients of grants under 49 U.S.C. 5311 (Other Than Urbanized Area Formula Grants). Recipients of these grants include the 50 States, Puerto Rico, American Samoa, Guam, and the Northern Marianas. (By statute, the Virgin Islands are considered to be an urbanized area for purposes of FTA grant-making). A number of Indian Tribes are also direct recipients of grants under 49 U.S.C. 5311. In addition to fulfilling a statutory requirement, these data will be used in the annual National Transit Summaries and Trends report, the biennial Conditions and Performance Report to Congress, and in meeting FTA's obligations under the Government Performance and Results Act.

This notice announces the availability of the final Rural Manual on the NTD Web site, http://www.ntdprogram.gov.

II. Comments and FTA Response to Comments

On September 5, 2007, FTA published a notice in the Federal Register (72 FR 17459) inviting comments on the proposed Rural Manual. FTA received six comments, including two that were filed as comments on FTA's Notice of Proposed Rulemaking for 49 CFR part 630, but which FTA considered in its review of the Rural Manual. One comment, from a large State Department of Transportation (State DOT), merely commended the 2007 NTD Rural Manual, “especially the inclusion of an Excel spreadsheet * * * to input data.” FTA hereby responds to the remaining five comments in the following order: (a) Reporting Deadlines; (b) Intercity Bus Issues; (c) Changes in Reporting Requirements; (d) Alignment with Congressional Intent; and (e) Other Comments.

(a) Reporting Deadlines:

Two comments expressed concern about the October 28 reporting deadline proposed in the Rural Manual for certain reporters. One comment suggested a new reporting deadline to be 120 days from the publication of the final 2007 Rural Manual.

FTA Responds: FTA understands this concern, and amends the 2007 Rural NTD Reporting Deadline to be February 29, 2008, for reporters whose 2007 Fiscal Year ended on or before September 30, 2007. The 2007 Rural NTD Reporting Deadline will continue to be April 30, 2008, for those reporters whose 2007 Fiscal Year ended or will end between October 1, 2007, and December 31, 2007.

(b) Intercity Bus Issues:

Several comments were filed in an earlier docket on FTA's Notice of Proposed Rulemaking for 49 CFR part 630, based on a draft version of the Rural Manual available at http://www.ntdprogram.gov. One comment expressed concern that the Rural NTD did not include a separate mode for Intercity Bus. Another comment asked why Section 5311 grants to intercity bus subrecipients did not cover both operating grants and capital grants.

FTA Responds: FTA agrees with these commenters and has established a separate Intercity Bus mode in the final edition of the Rural Manual. FTA has also provided for the collection of both capital grants and operating grants to intercity bus subrecipients.

One comment asked why intercity bus carriers were not required to submit fleet data, nor to submit safety data on fatalities, injuries, and major incidents.

FTA Responds: FTA reminds the commenter that these data will be collected from State DOTs; intercity bus providers will not be reporting directly to the Rural NTD Module. During FTA's outreach in development of this module, FTA found that State DOTs did not normally collect the same extensive information from intercity bus grant set-aside subrecipients (which are typically private, for-profit corporations), as they collect from typical Section 5311 grant subrecipients. FTA has created the streamlined report for subrecipients of the intercity bus set-aside in order to minimize reporting burden on State DOTs.

One comment asked if the condensed RU-20 form for intercity bus is the only form to be reported for intercity bus subrecipients. This comment also asked for clarification as to how subrecipients that receive intercity bus set-aside funds, as well as other Section 5311 funds, should be reported by the State DOT. This comment suggested that the streamlined RU-20 form for intercity bus should be reclassified as a unique form with its own instructions, and asked for clarification as to how intercity bus data are added to the automatically-generated RU-30 form.

FTA Responds: FTA clarifies that the intercity bus form is to be used only for reporting data on those Section 5311 grant subrecipients that receive funds from the intercity bus set-aside pursuant to 49 U.S.C. 5311(f) and that do not receive any other Section 5311 funds from the State DOT. In the event that a single subrecipient receives funds both from the intercity bus set-aside pursuant to 49 U.S.C. 5311(f), as well as from other Section 5311 funds, then the State DOT should provide a complete report for that subrecipient on the regular RU-20 form. FTA will consider reclassifying the streamlined RU-20 form for intercity bus subrecipients with a different form number for the 2008 Report Year, but declines to do so for the 2007 Report Year in the interests of making the Rural Manual available to reporters as expeditiously as possible. Instructions on completing both versions of the RU-20 form are available through the Rural Manual, through periodic NTD training, and through technical assistance from NTD validation analysts. FTA notes that intercity bus data appears on the RU-30 form in data fields specifically labeled as such, e.g., “5311 intercity bus unlinked passenger trips.”

(c) Changes in Reporting Requirements:

Two comments objected to the significant changes in the proposed reporting requirements in the Rural Manual from those used in the 2002 and 2006 Rural NTD Pilot Programs. Both commenters noted that their efforts to develop reporting software in order to combine NTD reporting requirements with their own State's internal reporting requirements were negatively impacted by the change in the proposed reporting requirements for the 2007 Report Year from the 2006 Rural NTD data collection. One of these comments suggested that data requirements in the Rural Manual that were not included in the 2006 Rural NTD data collection should be voluntary for the 2007 Report Year.

FTA Responds: FTA reminds commenters that the 2006 Rural NTD data collection was developed prior to the enactment of the Safe, Accountable, Flexible, Efficient Transportation Equity Act: A Legacy for Users (SAFETEA-LU.) SAFETEA-LU amended 49 U.S.C. 5311(4) to require that recipients of Section 5311 Grants “submit an annual report * * * containing information on capital investment, operations, and service provided with funds received under this section, including—

(A) Total annual revenue;

(B) Sources of revenue;

(C) Total annual operating costs;

(D) Total annual capital costs;

(E) Fleet size and type, and related facilities;

(F) Revenue vehicle miles; and

(G) Ridership.”

The additional reporting requirements proposed in the Rural Manual were designed in large part to conform to these statutory requirements. In particular, FTA proposed requesting additional information on sources of revenue, fleet size, and fleet type in order to meet these requirements.

FTA declines to make the changed reporting requirements voluntary for the 2007 Report Year. FTA reminds the commenters, however, that pursuant to 49 CFR § 630.10, reporting entities may request a waiver of one or more sections of the reporting requirements if the data cannot be reported “without unreasonable expense and inconvenience.” FTA will consider the expense and inconvenience of providing certain data for the first time in evaluating waivers filed for the 2007 Report Year.

(d) Alignment with Congressional Intent:

Two comments objected to collecting data for individual subrecipients of Section 5311 Grants. One comment suggested that FTA should only require State DOTs to provide reports directly to the RU-30 State Summary Form. FTA is currently proposing to compile the RU-30 State Summary Form automatically from the various RU-20 Forms completed for each subrecipient by each State DOT. This commenter also asked if FTA intends to publish individual subrecipient data.

FTA Responds: FTA believes that collecting individual subrecipient data is in alignment with Congressional intent. FTA notes that individual subrecipient data were part of the 2006 Rural NTD data collection. Additionally, 49 U.S.C. 5335(b) specifies that FTA may make a Section 5311 Grant “only if the applicant, and any person that will receive benefits directly from the grant, are subject to [NTD reporting.]” Subrecipients of Section 5311 Grants are direct beneficiaries of these Grants and so are clearly subject to NTD reporting by 49 U.S.C. 5335(b). Additionally, many of the specific reporting requirements delineated in 49 U.S.C. 5311(4), such as “total annual revenue,” “total annual operating costs,” and “total annual capital costs,” only make sense in the context of data being provided at the subrecipient level. Since most recipients of Section 5311 Grants are State DOTs, it seems unlikely that Congress was contemplating that the annual report required by 49 U.S.C. 5311(4) should contain, for example, the “total annual revenue” for a State DOT. Finally, FTA notes that under 49 U.S.C. 5335 FTA may “request and receive appropriate information from any source” for the NTD. “Any source” includes the subrecipients of Section 5311 Grants. Thus, FTA declines to adopt the suggestions to only collect Statewide summary data and not to collect individual subrecipient data.

In response to the question as to whether FTA intends to publish individual subrecipient data, FTA does not believe that it has the authority to withhold individual subrecipient data from the public. Nevertheless, specific data products using the Rural NTD data are still under development. The role of individual subrecipient data in public data products has not yet been determined by FTA.

(e) Other Comments:

One comment asked a number of specific questions regarding the RU-20 form. This comment asked if a reporter completing the “Address” line, but not the “P.O. Box” line would be considered to have filed an incomplete report.

FTA Responds: No, FTA would not consider such a report to be incomplete.

The comment asked FTA to remove certain reporting lines for total revenues and total expenditures, which are currently manually entered, and which appear to be duplicated by certain other lines on the RU-20 form that are automatically calculated.

FTA Responds: FTA notes that these lines are not actually duplicated. Line 5 on the proposed RU-20 asks for “Total Annual Operating Expenses,” whereas Line 12 auto-calculates the “Total Annual Operating Revenues Expended.” While these lines will frequently be the same, they may be different in the case of a subrecipient that is operating at a deficit. The same principle applies to Line 13 “Annual Capital Costs,” and Line 18, which auto-calculates the “Total Capital Funds Expended.”

The comment asked FTA to clarify how a reporter should report revenue for a subrecipient that is providing service under contract to a recipient of Federal funds.

FTA Responds: Revenues received by a subrecipient for providing service under contract should simply be reported as contract revenue. It is not necessary for reporters to determine the ultimate source of the funds by which the contract was paid.

The comment asked why the proposed RU-20 form did not provide for revenues received from FTA's Section 5303, 5304, and 5307 Grant Programs.

FTA Responds: Recipients of Section 5307 Grants are required to report as urbanized area reporters to the NTD. As such, recipients of Section 5307 Grants should not be included on a Rural NTD report. In rare cases, a subrecipient of Section 5311 Grants may receive Section 5303 or Section 5304 grants as well. In these rare cases, these monies should be reported as “Other Federal Funds.” FTA will update the 2007 Rural Manual to reflect this. Based on 2007 data, FTA will consider making a more specific category for these Funds in future years.

The comment proposed eliminating many of the data elements that FTA proposed for asset reporting, namely, vehicle length, seating capacity, year of manufacture, largest source of funding, and ownership code.

FTA Responds: FTA declines to drop the proposed data elements from asset reporting. FTA's Section 5311 Program is a major source of funding for rural transit capital assets. The proposed data elements are essential to understanding the current state of rural transit assets and the effectiveness of the Section 5311 Grant Program over time. Although there will be some reporting burden associated with the asset data in the first year, this burden will be minimized in future years by pre-filling data from the previous year's reports into the subsequent year's reports. FTA also notes that substantially fewer asset data are being requested in the Rural NTD than are requested from urbanized area reporters. The NTD requires urbanized area reporters to provide vehicle manufacturer, vehicle model number, the rebuild year of the vehicle, whether the vehicle is part of the active fleet, vehicle fuel type, vehicle standing capacity, lifetime vehicle miles, and the total actual vehicle miles for the past year. None of these data elements are being requested from Rural NTD reporters.

The comment questioned the value of collecting the number of volunteer drivers, and asked for clarification as to whether volunteer vehicles should be reported in the asset data collection.

FTA Responds: Volunteer drivers represent a pre-funded operating expense for rural transit agencies. Whereas paid drivers are accounted for in the NTD report as an operating expense, this is the only way to account for the value of volunteer drivers. FTA has updated the Rural Manual to reflect that volunteer vehicles are to be excluded from the capital asset data.

The comment also asked for clarification on the accounting for taxicab trips.

FTA Responds: FTA recognizes that many rural transit agencies supplement their transit service through the use of taxicab trips in order to meet the need for transit services. In order to minimize the burden to reporters, FTA is not requesting vehicle miles and vehicle hours for trips provided by taxicabs. Thus, the trips that are manually reported in Line 25 of the RU-20 Form should directly relate to the reported vehicle miles and hours. The total trips field in this line is an auto-calculated field that will sum all of the trips reported on Line 25. FTA has updated the Rural Manual to reflect that the unlinked passenger trips manually reported in Line 25 should be exclusive of the taxicab trips reported in Line 24.

The comment suggested that FTA should request vehicle revenue miles and vehicle revenue hours, rather than total vehicle miles and total vehicle hours.

FTA Responds: FTA adopts the proposed suggestion, and changes the fields on the form to be “vehicle revenue miles” and “vehicle revenue hours.” FTA notes that this change conforms with 49 U.S.C. 5311(4)(f), which specifies that FTA is to collect revenue vehicle miles. Furthermore, in order to minimize reporting burden, FTA has updated the guidance in the Rural Manual to indicate that for rural demand response systems, all miles and hours from garage departure to garage return during revenue service are to be considered “revenue miles” and “revenue hours.” Revenue miles and hours for demand response service will continue to exclude miles and hours for training and maintenance. Revenue miles and hours for bus service will continue to exclude deadhead miles and hours, as well as miles and hours for training and maintenance.

The comment suggested replacing the terms “Regular Transit Trips” and “Special Service Trips” with the terms “Unlinked Passenger Trips,” and “Contracted Trips.”

FTA Responds: FTA adopts the proposal to use the term “Regular Unlinked Passenger Trips.” FTA has updated the Rural Manual to reflect that the term “unlinked” only refers to those few rural systems that have passenger transfers. FTA has also changed the term “Contracted Trips” to the term “Coordinated Unlinked Passenger Trips,” and has updated the Rural Manual to reflect that this refers to those trips provided as categorical service under contract.

The comment expressed concern about the burden of providing separate data by mode.

FTA Responds: FTA notes that although FTA asks if a sub-recipient provides fixed-route service or deviated-fixed-route service, FTA considers both of these services to be a single mode: the “Bus” mode. Additionally, FTA notes that only the data on Line 25, containing vehicle revenue miles, vehicle revenue hours, unlinked passenger trips, and coordinated unlinked passenger trips, is provided by mode. FTA believes that reporters should be able to provide this data separately for their bus, demand response, and vanpool modes, and that this data will be valuable to the public.

The comment suggested that FTA should be prepared to offer extensive training on the Rural NTD.

FTA Responds: FTA has offered Rural NTD Training in the past, and will continue to do so. In particular, FTA offered three Rural NTD training sessions in 2007, and has additional training sessions planned for 2008.

Issued in Washington, DC, this 28th day of November 2007.
James S. Simpson,
Administrator.

[FR Doc. E7-23632 Filed 12-5-07; 8:45 am]

BILLING CODE 4910-57-P